GENERAL SERVICES ADMINISTRATION

41 CFR Part 101-2

[FPMR Amendment A-56]

RIN 3090-AH32

Payments to GSA for Supplies and Services Furnished Government Agencies

AGENCY: Office of Governmentwide Policy.

ACTION: Final rule.

SUMMARY: The General Services Administration (GSA) is removing Federal Property Management Regulations (FPMR) coverage on Payments to GSA for Supplies and Services Furnished Government Agencies. Adequate coverage exists in the Department of Treasury's regulations. This action eliminates unnecessary coverage in the FPMR.

EFFECTIVE DATE: This final rule is effective October 27, 2000.

FOR FURTHER INFORMATION CONTACT: Michael Kosar, 202-501-2029. E-mail: mike.kosar@gsa.gov.

SUPPLEMENTARY INFORMATION:

A. Background

In an effort to improve GSA's external directives system, GSA has undertaken a review of the Federal Property Management Regulations (FPMR). The FPMR prescribes Governmentwide regulations for real property, personal property, and other programs and activities within GSA's regulatory authority. As part of this review, GSA is removing FPMR 101-2 because it is procedural rather than regulatory. Current guidance issued by the Department of Treasury may be found in the Treasury Financial Manual (TFM) Vol. 1, Part 6, Chapter 4000.

B. Executive Order 12866

The General Services Administration has determined that this final rule is not a significant regulatory action for the purposes of Executive Order 12866.

C. Regulatory Flexibility Act

A regulatory flexibility analysis is not required under the Regulatory Flexibility Act, 4 U.S.C. 601, et seq., because there is no requirement that the rule be published in the Federal Register for notice and comment.

D. Paperwork Reduction Act

The Paperwork Reduction Act does not apply because this final rule does not impose recordkeeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects in 41 CFR Part 101-2

Government property management.

PART 101-2—[REMOVED]

Accordingly, under the authority of Sec. 205(c), 63 Stat. 390 (40 U.S.C. 496(c)), amend 41 CFR Chapter 101 by removing part 101-2.

Dated: October 23, 2000.
David J. Barram,
Administrator of General Services.

[FR Doc. 00-27653 Filed 10-26-00; 8:45 am]

BILLING CODE 6820-34-U